DEPARTMENT OF HEALTH AND HUMAN SERVICES

National Institutes of Health

National Institute on Minority Health and Health Disparities; Amended Notice of Closed Meeting

Notice is hereby given of a change in the meeting of the National Institute on Minority Health and Health Disparities Special Emphasis Panel, April 21, 2025, 8:00 a.m. to April 25, 2025, 10:00 p.m., National Institutes of Health, NIMHD, DEM II, Suite 800, 6707 Democracy Boulevard, Bethesda, MD, 20892 which was published in the Federal Register on March 18, 2025, FR Doc 2025-04407, 90 FR 12544.

This meeting notice is being amended to change the meeting dates from April 21, 2025, 8:00 a.m. to April 25, 2025, 10:00 p.m. to June 23, 2025, 10:00 a.m. to June 27, 2025, 6:00 p.m. The meeting is closed to the public.

Dated: April 4, 2025.
David W. Freeman,
Supervisory Program Analyst, Office of Federal Advisory Committee Policy.

[FR Doc. 2025-06092 Filed 4-8-25; 8:45 am]

BILLING CODE 4140-01-P